FEDERAL MARITIME COMMISSION

[DOCKET NO. 22-20]

MSRF, Inc., Complainant v. HMM Company Limited, Respondent; Notice of Filing of Complaint and Assignment

Notice is given that a complaint has been filed with the Federal Maritime Commission (Commission) by MSRF, Inc. (MSRF), hereinafter “Complainant”, against HMM Company Limited (HMM), hereinafter “Respondent”. Complainant alleges that Respondent is a vessel-operating common carriers organized under the laws of the Republic of Korea.

Complainant alleges that Respondent violated 46 U.S.C. 41102(c), 41104(a)(2), 41104(a)(5), 41104(a)(9), and 41104 (a)(10), regarding its practices and the rates and terms of its service contract. The full text of the complaint can be found in the Commission's Electronic Reading Room at https://www2.fmc.gov/readingroom/proceeding/22-20/.

This proceeding has been assigned to Office of Administrative Law Judges. The initial decision of the presiding officer in this proceeding shall be issued by August 19, 2023, and the final decision of the Commission shall be issued by March 4, 2024.

Served: August 19, 2022.
William Cody,
Secretary.

[FR Doc. 2022-18239 Filed 8-23-22; 8:45 am]

BILLING CODE 6730-02-P